DEPARTMENT OF LABOR

Employment and Training Administration

Notice of Reopened Availability of Funds and Funding Opportunity Announcement for the Senior Community Service Employment Program (SCSEP) National Grants for Program Year (PY) 2016

AGENCY: Employment and Training Administration, Labor.

ACTION: Notice of Funding Opportunity Announcement (FOA) re-opening.

Funding Opportunity Number: FOA-ETA-16-04-A.

SUMMARY: The Employment and Training Administration (ETA), U.S. Department of Labor (DOL, the Department, or we), announces a reopening of the availability of approximately $338,520,000 in grant funds authorized by title V of the Older Americans Act (OAA) as amended in 2006, Public Law 109-365 for the Community Service Employment for Older Americans program, commonly referred to as the Senior Community Service Employment Program (SCSEP), for National Grants for Program Year (PY) 2016.

DATES: The original Federal Register Notice, 81 FR 15745, was published on March 24, 2016. The closing date for receipt of applications under this announcement is July 25, 2016. Applications must be received no later than 4:00:00 p.m. Eastern Time.

FOR FURTHER INFORMATION CONTACT: Jeannette Flowers, 200 Constitution Avenue NW., Room N-4716, Washington, DC 20210; Telephone: 202-693-3322.

SUPPLEMENTARY INFORMATION: ETA is reopening the SCSEP FOA open period for 30 days to both new applicants and to applicants who applied for funding under this FOA during the previous open period. This reopening is intended to ensure adequate coverage of the necessary geographic areas and associated participant slots. Details on how to apply for new applicants and for existing applicants which wish to submit a new application are available in the FOA as well as any subsequent amendments to the FOA, which are described in further detail on ETA's Web site at https://www.doleta.gov/grants/find_grants.cfm or on http://www.grants.gov. The Web sites provide application information, eligibility requirements, review and selection procedures, and other program requirements governing this funding opportunity. SCSEP is the only Federally-sponsored employment and training program targeted specifically to low-income older individuals who are able to enter or reenter the workforce. Program participants receive paid work experience at local public or non-profit agencies and are paid the higher of the Federal, State, or local minimum wage, or the prevailing wage for similar employment, for approximately 20 hours per week while in community service and other job training (OAA Amendments § 502(b)(1)(J); 20 CFR 641.565(a)). The dual goals of the program are to promote useful opportunities in community service job training and to move SCSEP participants into unsubsidized employment.

We anticipate awarding approximately 10-22 grants ranging from $2 million to $50 million each under this FOA. This is a four-year grant, renewable annually for each of those four years based on annual Departmental application requirements and subject to the availability of funds. The grant may be extended for a fifth year at the Department's discretion, contingent upon the grantee meeting or exceeding the minimum negotiated performance measures as required by section 514(a) of the OAA Amendments and 20 CFR 641.700.

Jimmie Curtis is the Grant Officer for the Funding Opportunity Announcement.

Signed June 23, 2016 in Washington, DC
Donna Kelly,
Grant Officer, Employment and Training Administration.

[FR Doc. 2016-15466 Filed 6-29-16; 8:45 am]

BILLING CODE 4510-FN-P